Proclamation 7729 of October 31, 2003

National Diabetes Month, 2003

By the President of the United States of America

A Proclamation

Almost 17 million Americans have diabetes, a disease that prevents the body from using its own insulin to break down sugars. It is the sixth leading cause of death in the United States. During National Diabetes Month, we recognize advancements in preventing, treating, and detecting this disease, and we renew our commitment to helping Americans with diabetes live longer, healthier lives.

Diabetes can lead to severe complications, including heart disease, blindness, kidney failure, and lower-extremity amputations. Up to 1 million Americans have type 1 diabetes, an autoimmune disorder that destroys insulin-producing cells in the pancreas, while an estimated 16 million Americans have type 2 diabetes, in which the body does not sufficiently produce or process enough insulin. Type 2 diabetes is often related to obesity, and it is rising rapidly among men and women of all ages. Type 2 diabetes is also on the rise among children, for whom it was once extremely rare. Modest weight loss, increased exercise, and a healthy diet can decrease the risk of type 2 diabetes and help manage its complications.

Through the HealthierUS Initiative, my Administration is helping Americans develop the healthier habits that can improve their quality of life. And the Centers for Disease Control and Prevention and the National Institutes of Health are working together through the National Diabetes Education Program to educate Americans at risk for diabetes and to instruct those living with the disease about controlling blood glucose, blood pressure, and cholesterol. By raising awareness in our communities and providing assistance to those battling the disease, we are fighting diabetes.

My Administration also has demonstrated a strong commitment to medical research by completing a 5-year commitment to double the NIH budget to more than $27 billion. During fiscal year 2003, the NIH invested an estimated $860.5 million into diabetes research. We will continue to support NIH scientists and others working to treat and cure this disease.

During National Diabetes Month, we commend those advancing the fight against diabetes as they bring hope and health to millions of Americans.

NOW, THEREFORE, I, GEORGE W. BUSH, President of the United States of America, by virtue of the authority vested in me by the Constitution and laws of the United States, do hereby proclaim November 2003 as National Diabetes Month. I call upon all Americans to increase their awareness of the risk factors and symptoms related to diabetes and to observe this month with appropriate programs and activities.

IN WITNESS WHEREOF, I have hereunto set my hand this thirty-first day of October, in the year of our Lord two thousand three, and of the Independence of the United States of America the two hundred and twenty-eighth.

B

[FR Doc. 03-28002

Filed 11-4-03; 8:45 am]

Billing code 3195-01-P